SECURITIES AND EXCHANGE COMMISSION

[File No. 500-1]

ULH Corp. (n/k/a UniHolding Corp.), Unapix Entertainment, Inc., Unicomp, Inc., and Unidyne Corp.; Order of Suspension of Trading

April 21, 2010.

It appears to the Securities and Exchange Commission that there is a lack of current and accurate information concerning the securities of ULH Corp. (n/k/a UniHolding Corp.) because it has not filed any periodic reports since it filed a Form 10-K for the period ended May 31, 1999.

It appears to the Securities and Exchange Commission that there is a lack of current and accurate information concerning the securities of Unapix Entertainment, Inc. because it has not filed any periodic reports since it filed a Form 10-Q for the period ended June 30, 2000.

It appears to the Securities and Exchange Commission that there is a lack of current and accurate information concerning the securities of Unicomp, Inc. because it has not filed any periodic reports since it filed a Form 10-Q/A for the period ended November 30, 2000.

It appears to the Securities and Exchange Commission that there is a lack of current and accurate information concerning the securities of Unidyne Corp. because it has not filed any periodic reports since it filed a Form 10-QSB for the period ended September 30, 1999.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 21, 2010, through 11:59 p.m. EDT on May 4, 2010.

By the Commission.
Jill M. Peterson,
Assistant Secretary.

[FR Doc. 2010-9568 Filed 4-21-10; 4:15 pm]

BILLING CODE 8011-01-P